DEPARTMENT OF THE INTERIOR

National Park Service

Delaware Water Gap National Recreation Area Citizen Advisory Commission Meeting

AGENCY: National Park Service; Interior.

ACTION: Notice of meeting.

SUMMARY: This notice announces a public meeting of the Delaware Water Gap National Recreation Area Citizen Advisory Commission. Notice of this meeting is required under the Federal Advisory Committee Act (Pub. L. 92-463).

Meeting Date and Time: Saturday, September 6, 2003, at 9 a.m.

Address: Foster Armstrong House, Montague NJ 07827.

The agenda will include reports from Citizen Advisory Commission members including setting dates and times for future meetings, and other topics as deemed necessary by the members. Acting Superintendent Doyle Nelson will give a report on various park issues, including an update on the park's historic leasing program. The agenda is set up to invite the public to bring issues of interest before the Commission. These issues typically include treatment of historic buildings within the recreation area, monitoring of waste water facilities outside the recreation area but empyting into the Delaware River, and wildlife management issues.

SUPPLEMENTARY INFORMATION: The Delaware Water Gap National Recreation Area Citizen Advisory Commission was established by Public Law 100-573 to advise the Secretary of the Interior and the United States Congress on matters pertaining to the management and operation of the Delaware Water Gap National Recreation Area, as well as on other matters affecting the recreation area and its surrounding communities.

FOR FURTHER INFORMATION, CONTACT: Superintendent, Delaware Water Gap National Recreation Area, Bushkill, PA 18324, 570-588-2418.

Dated: April 9, 2003.
Doyle Nelson,
Acting Superintendent.

[FR Doc. 03-14315 Filed 6-5-03; 8:45 am]

BILLING CODE 4310-MY-P